DEPARTMENT OF THE INTERIOR

U.S. Geological Survey

Announcement of National Geospatial Advisory Committee Meeting

AGENCY: U.S. Geological Survey, Interior.

ACTION: Notice of meeting.

SUMMARY: The National Geospatial Advisory Committee (NGAC) will meet on June 11-12, 2013 at the South Interior Building Auditorium, 1951 Constitution Avenue NW., Washington, DC 20240. The meeting will be held in the first floor Auditorium. The NGAC, which is composed of representatives from governmental, private sector, non-profit, and academic organizations, was established to advise the Federal Geographic Data Committee on management of Federal geospatial programs, the development of the National Spatial Data Infrastructure (NSDI), and the implementation of Office of Management and Budget (OMB) Circular A-16. Topics to be addressed at the meeting include:

• Leadership Dialogue

• NSDI Strategic Plan

• Geospatial Platform

• OMB Circular A-16 Portfolio Management

• Landsat Advisory Group

• Subcommittee Reports

The meeting will include an opportunity for public comment on June 12. Comments may also be submitted to the NGAC in writing. Members of the public who wish to attend the meeting must register in advance. Please register by contacting Arista Maher at the U.S. Geological Survey (703-648-6283, amaher@usgs.gov). Registrations are due by June 7, 2013. While the meeting will be open to the public, registration is required for entrance to the South Interior Building, and seating may be limited due to room capacity.

DATES: The meeting will be held from 8:30 a.m. to 5:30 p.m. on June 11 and from 8:30 a.m. to 4:00 p.m. on June 12.

FOR FURTHER INFORMATION CONTACT: John Mahoney, U.S. Geological Survey (206-220-4621).

SUPPLEMENTARY INFORMATION: Meetings of the National Geospatial Advisory Committee are open to the public. Additional information about the NGAC and the meeting is available at www.fgdc.gov/ngac.

Dated: May 15, 2013.
Ivan DeLoatch,
Executive Director, Federal Geographic Data Committee.

[FR Doc. 2013-12197 Filed 5-21-13; 8:45 am]

BILLING CODE 4310-AM-P